DEPARTMENT OF ENERGY

[OE Docket No. EA-315-C]

Application To Export Electric Energy; BP Energy Company

AGENCY: Office of Electricity, Department of Energy.

ACTION: Notice of application.

SUMMARY: BP Energy Company (Applicant or BP Energy) has applied for authorization to transmit electric energy from the United States to Canada pursuant to the Federal Power Act.

DATES: Comments, protests, or motions to intervene must be submitted on or before December 9, 2021.

ADDRESSES: Comments, protests, motions to intervene, or requests for more information should be addressed by electronic mail to Electricity.Exports@hq.doe.gov, or by facsimile to (202) 586-8008.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On September 29, 2021, BP Energy filed an application with DOE (Application or App.) to transmit electric energy from the United States to Canada “for a term of five (5) years, or the maximum period allowed.” App. at 1. BP Energy states that it “is a Delaware corporation and a wholly-owned indirect subsidiary of BP America Inc.” which “is an indirect, wholly-owned subsidiary of BP p.l.c. (“BP”), a company organized under the laws of England and Wales with its international headquarters in London, UK and its U.S. headquarters in Houston, Texas.” Id. at 2. BP Energy represents that “[n]either [it] nor any of its affiliates own or control electric transmission facilities except for those facilities that are necessary to connect generating facilities owned by affiliates to the transmission grid.” Id. at 5.

BP Energy further claims that its proposed purchases will derive from “electric utilities, power marketers, federal power marketing agencies, and affiliated suppliers pursuant to voluntary agreements.” App. at 5. BP Energy contends that its proposed exports “do not and will not impair the sufficiency of the electric power supply within the United States.” Id. at 5-6. BP Energy adds that its exports “will not impede or tend to impede the regional coordination of electric utility planning or operations, but will instead conform to system requirements as they may change over time.” Id. at 6.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning BP Energy's application to export electric energy to Canada should be clearly marked with OE Docket No. EA-315-C. Additional copies are to be provided directly to Betsy Carr, 201 Helios Way, Houston, TX 77079, betsy.carr@bp.com and Judy Briscoe, 201 Helios Way, Houston, TX 77079, judy.briscoe@bp.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at http://energy.gov/node/11845, or by emailing Matt Aronoff at matthew.aronoff@hq.doe.gov.

Signed in Washington, DC, on November 4, 2021.
Christopher Lawrence,
Management and Program Analyst, Electricity Delivery Division, Office of Electricity.

[FR Doc. 2021-24464 Filed 11-8-21; 8:45 am]

BILLING CODE 6450-01-P